DEPARTMENT OF ENERGY

Federal Energy Regulatory Commission

[Project No. 2628-066]

Alabama Power Company; Notice of Ready for Environmental Analysis, and Soliciting Comments, Recommendations, Preliminary Terms and Conditions, and Preliminary Fishway Prescriptions

Take notice that the following hydroelectric application has been filed with the Commission and is available for public inspection.

a. Type of Application: New Major License.

b. Project No.: 2628-066.

c. Date filed: November 23, 2021.

d. Applicant: Alabama Power Company (Alabama Power).

e. Name of Project: R.L. Harris Hydroelectric Project (Harris Project).

f. Location: The Harris Project is located on the Tallapoosa River near the City of Lineville in Randolph, Clay, and Cleburne Counties, Alabama. The Harris Project also includes land within the James D. Martin-Skyline Wildlife Management Area located approximately 110 miles north of Harris Reservoir in Jackson County, Alabama. The project occupies 4.90 acres of federal land administered by the Bureau of Land Management.

g. Filed Pursuant to: Federal Power Act 16 U.S.C. 791(a)-825(r).

h. Applicant Contact: Angie Anderegg, Harris Relicensing Project Manager, Alabama Power Company; 600 North 18th Street, P.O. Box 2641, Birmingham, AL 35203-8180; (205) 257-2251, or email at arsegars@southernco.com.

i. FERC Contact: Sarah Salazar at (202) 502-6863, or email at sarah.salazar@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: R.L. Harris Hydroelectric Project (P-2628-066).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Harris Project consists of: (1) the 29-mile-long, 9,870-acre Harris Lake at a normal full pool elevation of 793 feet mean sea level (msl); (2) a 151.5-foot-high concrete dam; (3) a 310-foot-long gated spillway with five 40.5-feet-high by 40-feet-wide radial gates for passing flood flows, and one radial trash gate; (4) a variable level powerhouse intake, integral with the dam, which can draw water from lake elevations between 746 feet and 764 feet msl; (5) a 186-foot-long, 150-foot-high, and 95-foot-wide concrete powerhouse, integral with the dam, housing two vertical Francis turbines with a maximum hydraulic capacity of 8,000 cubic feet per second (cfs) and a rated total installed capacity of 135 megawatts (MW); (6) two 115 kilovolt transmission lines, which extend 1.5 miles from the dam to the Crooked Creek Transmission sub-station; and (7) appurtenant facilities.

Alabama Power proposes to install, operate, and maintain a Francis-type minimum flow unit to provide a continuous minimum flow of approximately 300 cfs in the Tallapoosa River downstream from Harris Dam. Based on preliminary design, the proposed minimum flow unit would have a generating capacity of about 2.5 MW.

The Harris Project is a peaking facility that generates about 151,878 megawatt-hours of electricity annually. Alabama Power operates the project to target lake surface elevations as guided by the project's operating curve. In addition, the U.S. Army Corps of Engineers' Alabama-Coosa-Tallapoosa River Basin Water Control Manual describes flood management regulations, drought management provisions, and navigation release requirements for the Harris Project.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural Schedule: The application will be processed according to the following schedule. Revisions to the schedule may be made as appropriate.

Milestone | Date
Deadline for Filing Comments, Recommendations, and Agency Terms and Conditions/Prescriptions | March 18, 2023.
Licensee's Reply to REA Comments | May 2, 2023.

p. Final amendments to the application must be filed with the Commission no later than 30 days from the issuance date of this notice.

Dated: January 17, 2023.
Kimberly D. Bose,
Secretary.

[FR Doc. 2023-01252 Filed 1-23-23; 8:45 am]

BILLING CODE 6717-01-P